INTERNATIONAL TRADE COMMISSION

[Investigation No. 337-TA-838]

Certain Food Waste Disposers and Components and Packaging Thereof; Notice of the Commission's Determination Not To Review Initial Determinations Granting Complainant's Motions To Partially Terminate the Investigation and To Withdraw the Complaint; Termination of the Investigation

AGENCY: U.S. International Trade Commission.

ACTION: Notice.

SUMMARY: Notice is hereby given that the U.S. International Trade Commission has determined not to review the presiding administrative law judge's (“ALJ”) initial determinations (“IDs”) (Order Nos. 6, and 8) granting (1) a motion by complainant Emerson Electric Co. of St. Louis, Missouri (“Emerson”) to partially terminate the investigation and (2) a motion to terminate the investigation based on withdrawal of the complaint.

FOR FURTHER INFORMATION CONTACT: Amanda S. Pitcher, Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 20, 2012, based on a complaint filed by Emerson of St. Louis, Missouri, alleging violations of section 337 of the Tariff Act of 1930 (19 U.S.C. 1337) by reason of (1) Infringement of the claim of U.S. Patent No. D535,850 ('850 patent); (2) infringement of U.S. Trademark Registration No. 2,518,010 and common law trademarks; (3) unfair competition by passing off; (4) trademark dilution; and (5) trade dress infringement. 77 FR 23751 (Apr. 20, 2012). The Commission's Notice of Investigation named Anaheim Manufacturing Co. of Brea, California as the only respondent. The Notice of Investigation was amended to add respondents Jiangsu Mega Motors and Zhjiang Zhongda Technical Export Co. Ltd. The Office of Unfair Import Investigations (“OUII”) was also named as a party.

On November 28, 2012, Emerson filed a motion for partial termination with respect to Emerson's allegations of infringement of the '850 patent, trademark infringement by inducement, and trademark dilution. On December 3, 2012, Emerson filed a letter supplementing its motion to state that there are no agreements among the parties concerning the subject matter of the investigation. On December 4, 2012, the ALJ granted Emerson's motion, in Order No. 6, finding that there are no agreements, written or oral, express or implied between the parties concerning the investigation. In addition, the ALJ found that there are no extraordinary circumstances that would preclude granting the motion and that partial termination is in the public interest.

On December 7, 2012, Emerson filed a motion to terminate the investigation based on withdrawal of the remaining allegations in the complaint and to stay the procedural schedule. On December 11, 2012, the ALJ granted Emerson's motion, in Order No. 8, finding that there are no agreements, written or oral, express or implied between the parties concerning the investigation. In addition, the ALJ found that there are no extraordinary circumstances that would preclude granting the motion and that termination of the investigation is in the public interest.

The Commission has determined not to review the subject IDs and to terminate the investigation.

The authority for the Commission's determination is contained in section 337 of the Tariff Act of 1930, as amended (19 U.S.C. 1337), and in sections 210.42 of the Commission's Rules of Practice and Procedure (19 CFR 210.42).

By order of the Commission.
Issued: January 3, 2013.
William R. Bishop,
Supervisory Hearings and Information Officer.

[FR Doc. 2013-00178 Filed 1-8-13; 8:45 am]

BILLING CODE 7020-02-P